SMALL BUSINESS ADMINISTRATION

[Disaster Declaration # 10919 and # 10920]

Texas Disaster Number TX-00254

AGENCY: U.S. Small Business Administration.

ACTION: Amendment 2.

SUMMARY: This is an amendment of the Presidential declaration of a major disaster for the State of Texas (FEMA-1709-DR), dated 06/29/2007.

Incident: Severe Storms, Tornadoes, and Flooding.

Incident Period: 06/16/2007 and continuing.

Effective Date: 07/10/2007.

Physical Loan Application Deadline Date: 08/28/2007.

EIDL Loan Application Deadline Date: 03/31/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated 06/29/2007 is hereby amended to include the following areas as adversely affected by the disaster:

Primary Counties:

Archer, Bell, Burnet, Eastland, Hood, Parker, Starr, Victoria, Webb, Wichita, Williamson.

Contiguous Counties:

Texas: Bastrop, Baylor, Blanco, Brooks, Brown, Calhoun, Callahan, Clay, Comanche, Dewitt, Dimmit, Duval, Erath, Falls, Goliad, Hidalgo, Jack, Jackson, Jim Hogg, La Salle, Lavaca, Lee, Llano, Maverick, Mcmullen, Milam, Palo Pinto, Refugio, Shackelford, Somervell, Stephens, Throckmorton, Travis, Wilbarger, Young, Zapata.

Oklahoma: Cotton, Tillman.

All other information in the original declaration remains unchanged.

(Catalog of Federal Domestic Assistance Numbers 59002 and 59008)

Herbert L. Mitchell,
Associate Administrator for Disaster Assistance.

[FR Doc. E7-13799 Filed 7-16-07; 8:45 am]

BILLING CODE 8025-01-P